DEPARTMENT OF TRANSPORTATION

Maritime Administration

[Docket No. MARAD-2019-0012]

Deepwater Port License Application: Texas COLT LLC

AGENCY: Maritime Administration, U.S. Department of Transportation.

ACTION: Notice of application withdrawal.

SUMMARY: The Maritime Administration (MARAD) and the U.S. Coast Guard (USCG) announce the cancellation of all actions related to the processing of a license application for the proposed Texas COLT LLC deepwater port. The action announced here includes cancellation of all activities related to the preparation of an Environmental Impact Statement that was announced on Friday, March 8, 2019, in Federal Register Volume 84 Number 46 (Notice of Intent; Notice of Public Meeting; Request for Comments). The action is taken in response to the applicant's decision to withdraw the application.

DATES: The cancellation of all actions related to this deepwater port license application was effective December 10, 2019.

ADDRESSES: The public docket for the COLT deepwater port license application is maintained by the U.S. Department of Transportation, Docket Management Facility, West Building, Ground Floor, Room W12-140, 1200 New Jersey Avenue SE, Washington, DC 20590. The docket may be viewed electronically at www.regulations.gov under the docket number for this project, which is MARAD-2019-0012. The Federal Docket Management Facility's telephone number is 202-366-9317 or 202-366-9826, the fax number is 202-493-2251.

FOR FURTHER INFORMATION CONTACT: Mr. Ken Smith, USCG, telephone: 202-372-1413, email: Ken.A.Smith@uscg.mil; or Mr. Linden Houston, MARAD, telephone: 202-366-4839, email: Linden.Houston@dot.gov.

SUPPLEMENTARY INFORMATION: On December 10, 2019, MARAD received notification from the applicant of the withdrawal of its application to own, construct, and operate a deepwater port for a liquefied natural gas deepwater port facility, located approximately 27.8 nautical miles off the coast of Brazoria County, Texas in a water depth of approximately 110 feet and connected to existing offshore pipelines. Consequently, MARAD has terminated all activities pertaining to COLT's deepwater port license application. All agency records and documents related to the COLT deepwater port license application will be preserved and retained by MARAD and USCG. Further information pertaining to this application may be found in the public docket (see ADDRESSES).

(Authority: 33 U.S.C. 1501 et seq., 49 CFR 1.93(h)).

Dated: December 23, 2019.
By Order of the Maritime Administrator.
T. Mitchell Hudson, Jr.,
Secretary, Maritime Administration.

[FR Doc. 2019-28137 Filed 12-27-19; 8:45 am]

BILLING CODE 4910-81-P